NATIONAL SCIENCE FOUNDATION

Proposal Review Panel for Materials Research; Notice of Meeting

In accordance with the Federal Advisory Committee Act (Pub. L. 92-463 as amended), the National Science Foundation announced the following meeting:

Name: Proposed Review Panel for Materials Research (DMR) #1203.

Dates and Times: April 6, 2006; 7:30 a.m.-9 p.m., April 7, 2006; 7:45 a.m.-4 p.m.

Place: Pennsylvania State University, State College, PA.

Type of Meeting Part-open.

For Further Information Contact: Dr. Thomas Rieker, Program Director, Materials Research Science and Engineering Centers Programs, Division of Materials Research, Room 1065, National Science Foundation, 4201 Wilson Boulevard, Arlington, VA 22230, Telephone (703) 2902-4914.

Purpose of Meeting: To provide advice and recommendations concerning further support of the Materials Research Science and Engineering Center.

Agenda:

Thursday, April 6, 2006

7:45 a.m.-8:45 a.m. Closed—Execuitve session

8:45 a..-5:15 p.m. Open—Review of the Materials Research Science and Engineering Center at Pennsylvania State University

5:15 p.m.-6:30 p.m. Closed—Executive session

7 p.m.-9 p.m. Open—Dinner

Friday, April 7, 2006

8 a.m.-9 a.m. Closed—Executive session

9 a.m.-10:45 a.m. Open—Review of the Materials Research Science and Engineering Center at Pennsylvania State University

10:45 a.m.-4 p.m. Closed—Executive Session, Draft and Review Report

Reason for Closing: The work being reviewed may include information of a proprietary or confidential nature, including technical information: financial data, such as salaries and personal information concerning individuals associated with the proposals. These matters are exempt under 5 U.S.C. 552 b(c), (4) and (6) of the Government in the Sunshine Act.

Dated: February 6, 2006.
Susanne Bolton,
Committee Management Office.

[FR Doc. 06-1241 Filed 2-9-06; 8:45 am]

BILLING CODE 7555-01-M